DEPARTMENT OF HEALTH AND HUMAN SERVICES

National Institutes of Health

Office of the Director; Notice of Call for Applications for the Directors Council of Public Representatives (COPR)

AGENCY: National Institutes of Health, HHS.

ACTION: Notice.

SUMMARY: The National Institutes of Health (NIH), the Federal government's primary agency for supporting and conducting medical research leading to the improvement in the nation's health, has established a relatively new national advisory council—the Directors Council of Public Representatives (COPR). The Chair of COPR is the Director of the National Institutes of Health. This notice describes the process for the selection of members of the COPR that NIH will use, as the original founding members begin to complete their terms and begin the COPR rotation process.

DATES: The application deadline for the COPR is October 23, 2001; the notification of selection date is December 2001; the term start date is April 1, 2002; and the first COPR meeting date for new members is April 16, 2002.

FOR FURTHER INFORMATION CONTACT: NIH Council of Public Representatives (COPR), c/o Palladian Partners, Inc., 1010 Wayne Avenue, Suite 1200, Silver Spring, MD 20910, telephone (301) 650-8660, fax (301) 650-7172, e-mail COPR@pallidianpartners.com. If you are interested in serving as a member of the COPR, please contact Palladian Partners, Inc. to have an application mailed to you or go on-line to www.nih.gov/about/publicliaison to access the COPR application instructions. If you have questions about your application or the submission process, please feel free to contact the staff working on this project by mail, telephone, fax, or e-mail, as indicated in the above information

ADDRESS: Please mail your application to NIH Council of Public Representatives (COPR), c/o Palladian Partners, Inc., 1010 Wayne Avenue, Suite 1200, Silver Spring, MD 20910, telephone (301) 650-8660, fax (301) 650-7172, e-mail COPR@palladianpartners.com.

SUPPLEMENTARY INFORMATION: The Director of the National Institutes of Health (NIH) created the Director's Council of Public Representative (COPR) in 1999 as an important forum for information exchange between the public and the NIH at the highest level. The COPR consists up to 20 individuals who are selected from among the many diverse communities that benefit from, and have an interest in, NIH research, programs, and activities. The COPR allows representatives of the public to present issues, concerns, and viewpoints to the NIH Director and to take information from NIH back to the broader public. COPR terms are typically three-year terms.

The minimum eligibility criteria are that the applicant must:

• Have some interest in the work of NIH (such as being a patient or family member of a patient; a care giver, or a volunteer in the health or science arena; a scientist or student of science; a health communicator, educator or professional in the medical field, but certainly not limited to these examples).

• Be in a position (formally or informally) to communicate regularly with the broader public or segments of the public about the activities of the COPR and the NIH.

• Commit to participating fully in activities of the COPR, including COPR meeting discussions and conference calls, and subcommittee and/or working group activities that will take time in addition to COPR meeting attendance twice a year.

Note: The NIH will cover travel expenses while on official government business as a COPR member.

In addition, COPR members—while participating in COPR activities— will have to agree to subordinate disease-specific or program-specific interests to broader, cross-cutting matters of importance to the NIH. COPR members will also need to agree to represent as broad a “public viewpoint” as possible and to at least keep the spirit of this goal at the forefront during all COPR discussions and activities.

Please contact Palladian Partners, Inc. to have an application mailed to you or go on-line to www.nih.gov/about/publicliaison to access the COPR application instructions. The NIH Director's COPR staff is located in the Office of Communications and Public Liaison, Office of the Director, National Institutes of Health. The application deadline is Tuesday, October 23, 2001. We will not consider late nomination packages.

After applications are screened for completeness, they will be reviewed and scored by external reviewers who are familiar with the responsibilities of the COPR. The NIH Director will make the final selection of candidates with the goal of creating a COPR that reflects the breadth and diversity of the publics interested in the NIH, taking into consideration many varied factors, including age, gender, culture, and geography. We expect that candidates will be selected in December 2001.

Thank you for your interest in the COPR. We look forward to receiving your application packet.

Dated: August 24, 2001.
Anne Thomas,
Associate Director for Communications, NIH.

[FR Doc. 01-22467 Filed 9-6-01; 8:45 am]

BILLING CODE 4140-01-M